DEPARTMENT OF HEALTH AND HUMAN SERVICES

Public Health Service

42 CFR Part 5

Designation of Health Professional(s) Shortage Areas

CFR Correction

In Title 42 of the Code of Federal Regulations, Parts 1 to 399, revised as of October 1, 2014:

1 On page 70, in Appendix A to Part 5, Part III, paragraph A is removed and Part I, paragraph A is redesignated as Part III, paragraph A; and on page 67, Part I, paragraph A is reinstated to read as follows:

APPENDIX A TO PART 5—CRITERIA FOR DESIGNATION OF AREAS HAVING SHORTAGES OF PRIMARY MEDICAL CARE PROFESSIONAL(S)

PART I—Geographic Areas

A. Criteria

A geographic area will be designated as having a shortage of primary medical care manpower if the following three criteria are met:

1. The area is a rational area for the delivery of primary medical care services.

2. One of the following conditions prevails within the area:

(a) The area has population to full-time-equivalent primary care physician ratio of at least 3,500:1.

(b) The area has a population to full-time-equivalent primary care physician ratio of less than 3,500:1 but greater than 3,000:1 and has usually high needs for primary care services or insufficient capacity of existing primary care providers.

3. Primary medical care manpower in contiguous areas are overutilized, excessively distant, or inaccessible to the population of the area under consideration.

* * * * *

2. On page 74, in Appendix B to Part 5, Part III, paragraph A is removed and Part I, paragraph A is redesignated as Part III, paragraph A; and on page 71, Part I, paragraph A is reinstated to read as follows:

APPENDIX B TO PART 5—CRITERIA FOR DESIGNATION OF AREAS HAVING SHORTAGES OD DENTAL PROFESSIONAL(S)

Part I—Geographic Areas

A. Criteria

A geographic area will be designated as having a dental manpower shortage if the following three criteria are met:

1. The area is a rational area for the delivery of dental services.

2. One of the following conditions prevails in the area:

(a) The area has a population to full-time-equivalent dentist ratio of less than 5,000:1 or

(b) The area has a population to full-time-equivalent dentist ratio of less than 5,000:1 but greater than 4,000:1 and has unusually high needs for dental services or insufficient capacity of existing dental providers.

3. Dental manpower in contiguous areas are over utilized, excessively distant, or inaccessible to the population of the area under consideration.

* * * * *

3. On page 77, in Appendix C to Part 5, Part III, paragraph A is revised to read as follows:

APPENDIX C TO PART 5—CRITERIA FOR DESIGNATION OF AREAS HAVING SHORTAGES OF MENTAL HEALTH PROFESSIONALS

Part III—Facilities

A. Federal and State Correctional Institutions

1. Criteria.

Medium to maximum security Federal and State correctional institutions and youth detention facilities will be designated as having a shortage of psychiatric manpower if both of the following criteria are met:

(a) The institution has more than 250 inmates, and

(b) The ratio of the number of internees per year to the number of FTE psychiatrists serving the institution is at least 1,000:1.

Here the number of internees is defined as follows:

(i) If the number of new inmates per year and the average length-of-stay are not specified, or if the information provided does not indicate that intake psychiatric examinations are routinely performed upon entry, then—

Number of internees=average number of inmates

(ii) If the average length-of-stay is specified as one year or more, and the intake psychiatric examinations are routinely performed upon entry, then—

Number internees=average number of inmates+number of new inmates per year

(iii) If the average length-of-stay is specified as less than one year, and intake psychiatric examinations are routinely performed upon entry, then—

Number of internees=average number of inmates+⅓×[1+(2×ALOS)]×number of new inmates per year

where ALOS=average length-of-stay (in fraction of year) (The number of FTE psychiatrists is computed as in Part I, Section B, paragraph 3 above.)

2. Determination of Degree of Shortage.

Designated correctional institutions will be assigned to degree-of-shortage groups, based on the number of inmates and/or the ration (R) of internees to FTE psychiatrists, as follows:

Group 1—Institutions with 500 or more inmates and no psychiatrist.

Group 2—Other institutions with no psychiatrists and institutions with R greater than (or equal to) 3,000:1.

Group 3—Institutions with R greater than (or equal to) 2,000:1 but less than 3,000:1.

[FR Doc. 2015-26249 Filed 10-14-15; 8:45 am]

BILLING CODE 1505-01-D